DEPARTMENT OF AGRICULTURE

Submission for OMB Review; Comment Request

March 27, 2007.

The Department of Agriculture has submitted the following information collection requirement(s) to OMB for review and clearance under the Paperwork Reduction Act of 1995, Pub. L. 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_ Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Cooperative State Research, Education, and Extension Service

Title: CSREES Current Research Information System (CRIS).

OMB Control Number: 0524-0042.

Summary of Collection: The United States Department of Agriculture (USDA), Cooperative State Research, Education, and Extension Service (CSREES) administers several competitive, peer-reviewed research, education and extension programs, under which awards of a high-priority are made. These programs are authorized pursuant to the authorities contained in the National Agricultural Research, Extension, and Teaching Policy Act of 1977, as amended (7 U.S.C. 3101); the Smith-Lever Act; and other legislative authorities. The Current Research Information System (CRIS) is USDA's documentation and reporting system for ongoing agricultural, food science, human nutrition, and forestry research. CRIS operates administratively under CSREES, but is a cooperative endeavor whereby information is collected on a project-by-project basis from many participant organizations, both federal and non-federal. Information is received from USDA agencies, State Agricultural Experiment Stations, the state land-grant colleges and universities, the institutions of 1890, state schools of forestry, cooperating schools of veterinary medicine, USDA grant recipients, and other cooperating institutions. The information is collected primarily via the Internet using CRIS Web forms.

Need and use of the Information: The collected information is necessary in order to provide descriptive information regarding individual research activities and integrated activities, to document expenditures and staff support for the activities, and to monitor the progress and impact of such activities. The information obtained through the collection process for CRIS furnishes unique data that is not available from any other source. Interruption in the collection process, or failure to collect this information would severely compromise one of CSREES' primary functions stated in the agency's strategic plan of “providing program leadership to identify, develop, and manage programs to support university-based and other institutional research.”

Description of Respondents: State, Local or Tribal Government; Business or other for-profit; Not-for profit institutions; Federal Government.

Number of Respondents: 32,441.

Frequency of Responses: Reporting: Other (Varies by form).

Total Burden Hours: 68,638.

Ruth Brown,
Departmental Information Collection Clearance Officer.

[FR Doc. E7-5968 Filed 3-30-07; 8:45 am]

BILLING CODE 3410-09-P